DEPARTMENT OF DEFENSE

Department of the Army, Corps of Engineers

Public Scoping Meetings for the Draft Supplemental Environmental Impact Statement for the Allatoona Lake Water Supply Storage Reallocation Study and Updates to Weiss and Logan Martin Reservoir Project Water Control Manuals in the Alabama-Coosa-Tallapoosa River Basin

AGENCY: U.S. Army Corps of Engineers, DoD.

ACTION: Supplement to Notice of Intent.

SUMMARY: The U.S. Army Corps of Engineers (USACE), Mobile District, issued a Notice of Intent (NOI) in the Federal Register (83 FR 18829) published on April 30, 2018, to prepare a Supplemental Environmental Impact Statement (SEIS), pursuant to the National Environmental Policy Act (NEPA), to evaluate potential changes to the Water Control Manuals (WCMs) for three reservoirs in the Alabama-Coosa-Tallapoosa (ACT) River Basin and to the Master WCM for the ACT River Basin. The Draft SEIS will be prepared as an integrated document with the reallocation study. The USACE will hold five public scoping meetings during the months of July and August as part of its preparation to conduct the water supply storage reallocation study and update the WCMs for the Alabama Power Company's Weiss and Logan Martin reservoirs in the ACT River Basin.

DATES: The meeting dates and times are:

1. Monday, July 30, 2018, 4-8 p.m. (EDT), Acworth, GA.

2. Tuesday, July 31, 2018, 4-8 p.m. (EDT), Rome, GA.

3. Wednesday, August 1, 2018, 4-8 p.m. (CDT), Gadsden, AL.

4. Thursday, August 2, 2018, 4-8 p.m. (CDT), Childersburg, AL.

5. Friday, August 3, 2018, 4-8 p.m. (CDT), Montgomery, AL.

ADDRESSES: The meeting locations are:

1. Acworth, GA—Cauble Park Beach House, 4425 Beach Street, Acworth, Georgia 30101, (770) 917-1234.

2. Rome, GA—Forum River Civic Center, Berry/Shorter Room, 301 Tribune Street, Rome, Georgia 30161, (706) 291-5281.

3. Gadsden, AL—The Pitman Theater, 629 Broad St., Gadsden, Alabama 35901, (256) 549-4740.

4. Childersburg, AL—Friends on Eighth, 109 8th Ave. SW, Childersburg, Alabama 35044, (205) 296-2397.

5. Montgomery, AL—AUM Center for Lifelong Learning, 75 TechnaCenter Drive, Montgomery, AL 36117, (334) 244-3343.

Following the scoping meetings, individuals who have not already submitted their comments should submit them by August 15, 2018, by either:

* Email to act-arc@usace.army.mil, or

* Mail to Mr. Mike Malsom, Inland Environment Team, Environment and Resources Branch, Planning and Environmental Division, USACE-Mobile, Post Office Box 2288, Mobile, AL 36628-0001.

FOR FURTHER INFORMATION CONTACT: Direct questions about the NEPA process to Mr. Mike Malsom by mail at Inland Environment Team, Environment and Resources Branch, Planning and Environmental Division, USACE-Mobile, Post Office Box 2288, Mobile, AL 36628-0001; telephone at (251) 690-2023; electronic facsimile at (251) 694-3815; or email at ACT-ACR@usace.army.mil. You can also request to be added to the mailing list for public distribution of notices, meeting announcements, and documents.

SUPPLEMENTARY INFORMATION: Additional information on the ACT River Basin study will be posted as it becomes available on the Mobile District website at http://www.sam.usace.army.mil/.

The USACE will hold five public scoping meetings during the months of July and August as part of its preparation to conduct the water supply storage reallocation study and update the WCMs for the Alabama Power Company's Weiss and Logan Martin reservoirs in the ACT River Basin. The public is invited to attend the scoping meetings, which will provide information on the study process and afford interested parties the opportunity to submit to USACE input about their issues and concerns regarding that process. Each of the public scoping meetings will be presented in an open house format, allowing time for participants to review specific information and to provide comments either on forms available at the meeting or to a court reporter on-site at the meeting.

Curtis M. Flakes,
Chief, Planning and Environmental Division.

[FR Doc. 2018-14975 Filed 7-12-18; 8:45 am]

BILLING CODE 3720-58-P